DEPARTMENT OF COMMERCE

International Trade Administration

[A-570-198]

Temporary Steel Fencing From the People's Republic of China: Preliminary Affirmative Determination of Sales at Less Than Fair Value, Preliminary Affirmative Determination of Critical Circumstances, in Part, Postponement of Final Determination and Extension of Provisional Measures

AGENCY: Enforcement and Compliance, International Trade Administration, Department of Commerce.

SUMMARY: The U.S. Department of Commerce (Commerce) preliminarily determines that temporary steel fencing from the People's Republic of China (China) is being, or is likely to be, sold in the United States at less than fair value (LTFV). The period of investigation (POI) is July 1, 2024, through December 31, 2024. Interested parties are invited to comment on this preliminary determination.

DATES: Applicable August 19, 2025.

FOR FURTHER INFORMATION CONTACT: Dennis McClure or Noah Wetzel, AD/CVD Operations, Office VIII, Enforcement and Compliance, International Trade Administration, U.S. Department of Commerce, 1401 Constitution Avenue NW, Washington, DC 20230; telephone: (202) 482-5973 or (202) 482-7466, respectively.

SUPPLEMENTARY INFORMATION:

Background

This preliminary determination is made in accordance with section 733(b) of the Tariff Act of 1930, as amended (the Act). Commerce published the notice of initiation of this investigation on February 11, 2025.¹ On May 15, 2025, Commerce postponed the preliminary determination of this investigation and the revised deadline is now August 13, 2025.²

¹ See Temporary Steel Fencing from the People's Republic of China: Initiation of Less-Than-Fair-Value Investigation, 90 FR 9315 (February 11, 2025) (Initiation Notice).

² See Temporary Steel Fencing from China: Postponement of Preliminary Determinations of Antidumping Duty Investigation, 90 FR 20621 (May 14, 2025).

For a complete description of the events that followed the initiation of this investigation, see the Preliminary Decision Memorandum.³ A list of topics included in the Preliminary Decision Memorandum is included as Appendix II to this notice. The Preliminary Decision Memorandum is a public document and is on file electronically via Enforcement and Compliance's Antidumping and Countervailing Duty Centralized Electronic Service System (ACCESS). ACCESS is available to registered users at https://access.trade.gov. In addition, a complete version of the Preliminary Decision Memorandum can be accessed directly at https://access.trade.gov/public/FRNoticesListLayout.aspx.

³ See Memorandum, “Decision Memorandum for the Preliminary Determination in the Less-Than-Fair-Value Investigation of Temporary Steel Fencing from China,” dated concurrently with, and hereby adopted by, this notice (Preliminary Decision Memorandum).

Scope of the Investigation

The products covered by this investigation are temporary steel fencing products from China. For a complete description of the scope of this investigation, see Appendix I.

Scope Comments

In accordance with the Preamble to Commerce's regulations,⁴ the Initiation Notice set aside a period of time for parties to raise issues regarding product coverage (i.e., scope).⁵ For a summary of the product coverage comments and rebuttal responses submitted to the record for this investigation, and accompanying discussion and analysis of all comments timely received, see the Preliminary Scope Decision Memorandum.⁶ Commerce is preliminarily modifying the scope language as it appeared in the Initiation Notice. See the revised scope in Appendix I to this notice.

⁴ See Antidumping Duties; Countervailing Duties, Final Rule, 62 FR 27296, 27323 (May 19, 1997) (Preamble).

⁵ See Initiation Notice, 90 FR at 9316.

⁶ See Memorandum, “Less-Than-Fair Value and Countervailing Duty Investigations on Temporary Steel Fencing from the People's Republic of China: Preliminary Scope Decision Memorandum,” dated concurrently with this memorandum (Preliminary Scope Decision Memorandum).

All interested parties are invited to comment on Commerce's Preliminary Scope Decision Memorandum in scope case and scope rebuttal briefs. The deadline for interested parties to submit scope case briefs is 30 days after the issuance of the Preliminary Scope Decision Memorandum. Scope rebuttal briefs, limited to issues raised in the scope case briefs, may be submitted no later than seven days after the deadline for the scope case briefs. Scope case and rebuttal briefs must be filed simultaneously, via ACCESS, on records of the LTFV and CVD investigations of temporary steel fencing from China.

Methodology

Commerce is conducting this investigation in accordance with section 731 of the Act. Commerce has calculated export prices in accordance with section 772(a) of the Act and constructed export prices in accordance with section 772(b) of the Act for Shijiazhuang Sd Company Ltd. (SD). Because China is a non-market economy (NME), within the meaning of section 771(18) of the Act, Commerce has calculated normal value in accordance with section 773(c) of the Act for SD. In addition, Commerce has relied on total adverse facts available (AFA) pursuant to section 776(a)(2) of the Act for Shenzhou Yongao Metal Products Co., Ltd./Shenzhou Yuelei Metal Products Co., Ltd. (collectively, Yongao/Yuelei).⁷ Furthermore, pursuant to sections 776(a) and (b) of the Act, Commerce preliminarily has relied upon AFA for the China-wide entity, which includes (1) Shaoxing Zhangzhan Trading Co., (2) Pacific Fence and Barricades Limited, (3) Sichuan Gold-Link Industry, (4) Suzhou Dihang Defense Facilities Co., (5) Sourcing Solution Co., Ltd., (6) Foshan Greatness Trade Co., Ltd., (7) Hebei Bending Fence Technology Co., Ltd., (8) Dezhou Hualude Hardware Products Co., Ltd, and (9) Zhejiang Zhengte Co., Ltd. For a full description of the methodology underlying Commerce's preliminary determination, see the Preliminary Decision Memorandum.

⁷ Commerce has preliminarily determined that the mandatory respondent Yongao is affiliated with Yuelei and has treated these companies as a single entity. See Memorandum, “Preliminary Results of Affiliation and Single Entity Determination,” dated concurrently with this preliminary determination.

Preliminary Affirmative Determination of Critical Circumstances, in Part

In accordance with section 733(e) of the Act and 19 CFR 351.206, Commerce preliminarily determines that critical circumstances exist for the China-wide entity and Yongao/Yuelei, but do not exist for temporary steel fencing exported by SD and produced by: (1) Huanghua Xingchang Hardware Products Co., Ltd., (2) Huanghua Shengrundong Hardware Products Co., Ltd., and (3) Hebei Oriental Star Metal Products Co., Ltd. Additionally, Commerce preliminarily determines that critical circumstances exists for the following separate rate companies regarding temporary steel fencing: (1) exported by Hebei Minmetals Co., Ltd. and produced or supplied by Huanghua Wangang Hardware Co., Ltd., Huanghua Taiyue Hardware Co., Ltd., Hebei Wuxin Garden Products Co., Ltd., Huanghua Qingxin Metal Products Co., Ltd., Huanghua Xingyu Hardware Products Co., Ltd., Huanghua Deyue Hardware Co., Ltd., Cangzhou Hualing Metal Products Co., Ltd., and Huanghua Huanyu Hardware Factory; (2) exported by Tianjin Linkwel International Trading Co., Ltd. and produced by Tianjin Lianhao Metal Products Co., Ltd. and Chanzhou Lianrui Metal Products Co., Ltd.; (3) exported by Shantou Jiayu Trading Co., Ltd. and supplied by Huanghua Juntai Hardware Products Co., Ltd.; (4) exported by Shijiazhuang Shuangming Trade Co., Ltd. and produced by Hebei Wangang Hardware Co., Ltd., Huanghua Taiyue Hardware Co., Ltd., Hebei Wuxin Garden Products Co., Ltd., Huanghua Qingxin Metal Products Co., Ltd., and Huanghua Xingyu Hardware Products Co., Ltd.; (5) exported by Metaltec Group Co., Limited and produced by Shijiazhuang Shuangming Trade Co., Ltd., Hebei Wangang Hardware Co., Ltd., Huanghua Taiyue Hardware Co., Ltd., Hebei Wuxin Garden Products Co., Ltd., Huanghua Qingxin Metal Products Co., Ltd., and Huanghua Xingyu Hardware Products Co., Ltd.; (6) exported by Hebei Yelang Imp. & Exp. Trade Co., Ltd. and produced by Huanghua Pengxiang Hardware Products Co., Ltd.; (7) exported by Joint Force Int'l Co., Limited and produced by Hebei Wuxin Garden Products Co., Ltd.; (8) exported by Hebei Jinshi Industrial Metal Co., Ltd. and produced and supplied by Tangshan ZhongRui IndustriaI Co., Ltd.; (9) exported by Hebei Haiao Wire Mesh Products Co., Ltd. and produced by Raoyang Shengshi Metal Products Co., Ltd.; (10) exported and produced by Anping Chengxin Metal Mesh Co., Ltd.; (11) exported by Hebei Houtuo Co., Ltd. and produced by Huanghua Aiyuan Hardware Products Co., Ltd.; (12) exported by Hebei Neweast Yilong Trading Co., Ltd., and produced by Huanghua City Deyue Hardware Co., Ltd.; and (13) exported and produced by Hebei Giant Metal Technology Co., Ltd. For a full description of the methodology and results of Commerce's critical circumstances analysis, see the Preliminary Decision Memorandum.

Combination Rates

In the Initiation Notice,⁸ Commerce stated that it would calculate producer/exporter combination rates for the respondents that are eligible for a separate rate in this investigation. Policy Bulletin 05.1 describes this practice.⁹

⁸ See Initiation Notice, 90 FR at 9318-9319.

⁹ See Enforcement and Compliance's Policy Bulletin No. 05.1, regarding, “Separate-Rates Practice and Application of Combination Rates in Antidumping Investigations involving Non-Market Economy Countries,” (April 5, 2005) (Policy Bulletin 05.1), available on Commerce's website at https://enforcement.trade.gov/policy/bull05-1.pdf.

Separate Rates

We preliminarily granted a separate rate to certain respondents that we did not select for individual examination.¹⁰ In calculating the rate for non-individually examined separate rate respondents in an NME LTFV investigation, Commerce normally looks to section 735(c)(5)(A) of the Act, which pertains to the calculation of the all-others rate in a market economy LTFV investigation, for guidance. Pursuant to section 735(c)(5)(A) of the Act, normally this rate shall be an amount equal to the weighted-average of the estimated weighted-average dumping margins established for those companies individually examined, excluding zero and de minimis dumping margins, and any dumping margins based entirely under section 776 of the Act. The statute further provides that, where all margins are zero, de minimis, or based entirely on facts available, Commerce may use “any reasonable method” for assigning the rate to non-selected respondents.¹¹

¹⁰ See Preliminary Decision Memorandum for additional details.

¹¹ See section 735(c)(5)(B) of the Act

In this investigation, Commerce calculated an individual estimated weighted-average dumping margin for SD that is not zero, de minimis, or based entirely on facts otherwise available with adverse inference. In this investigation, Commerce also preliminarily assigned a rate based entirely on AFA to Yongao/Yuelei. Thus, the only rate that is not zero, de minimis or based entirely on AFA is the weighted-average dumping margin calculated for SD. Consequently, the rate calculated for SD is the margin assigned to the non-examined, companies receiving a separate rate in this investigation. See the table below in the “Preliminary Determination” section of this notice.

Preliminary Determination

Commerce preliminarily determines that the following estimated weighted-average dumping margins exist:

Exporter | Producer | Weighted-average dumping margin (percent) | Cash deposit rate (adjusted for subsidy offsets) (percent)
Shenzhou Yongao Metal Products Co., Ltd./Shenzhou Yuelei Metal Products Co., Ltd | Shenzhou Yongao Metal Products Co., Ltd./Shenzhou Yuelei Metal Products Co., Ltd | * 187.69 | 177.15
Shijiazhuang Sd Company Ltd | Huanghua Xingchang Hardware Products Co., Ltd | 136.57 | 136.57
Shijiazhuang Sd Company Ltd | Huanghua Shengrundong Hardware Products Co., Ltd | 136.57 | 136.57
Shijiazhuang Sd Company Ltd | Hebei Oriental Star Metal Products Co., Ltd | 136.57 | 136.57
Hebei Minmetals Co., Ltd | Huanghua Wangang Hardware Co., Ltd | 136.57 | 136.57
Hebei Minmetals Co., Ltd | Huanghua Taiyue Hardware Co., Ltd | 136.57 | 136.57
Hebei Minmetals Co., Ltd | Hebei Wuxin Garden Products Co., Ltd | 136.57 | 136.57
Hebei Minmetals Co., Ltd | Huanghua Qingxin Metal Products Co | 136.57 | 136.57
Hebei Minmetals Co., Ltd | Huanghua Xingyu Hardware Products Co., Ltd | 136.57 | 136.57
Hebei Minmetals Co., Ltd | Huanghua Deyue Hardware Co., Ltd | 136.57 | 136.57
Hebei Minmetals Co., Ltd | Cangzhou Hualing Metal Products Co., Ltd | 136.57 | 136.57
Hebei Minmetals Co., Ltd | Huanghua Huanyu Hardware Factory | 136.57 | 136.57
Tianjin Linkwel International Trading Co., Ltd | Tianjin Lianhao Metal Products Co., Ltd | 136.57 | 136.57
Tianjin Linkwel International Trading Co., Ltd | Changzhou Lianrui Metal Products Co., Ltd | 136.57 | 136.57
Shantou Jiayu Trading Co., Ltd | Huanghua Juntai Hardware Products Co., Ltd | 136.57 | 136.57
Shijiazhuang Shuangming Trade Co., Ltd | Hebei Wangang Hardware Co., Ltd. Products Co., Ltd | 136.57 | 136.57
Shijiazhuang Shuangming Trade Co., Ltd | Huanghua Taiyue Hardware Co., Ltd | 136.57 | 136.57
Shijiazhuang Shuangming Trade Co., Ltd | Hebei Wuxin Garden Products Co., Ltd | 136.57 | 136.57
Shijiazhuang Shuangming Trade Co., Ltd | Huanghua Qingxin Metal Products Co | 136.57 | 136.57
Shijiazhuang Shuangming Trade Co., Ltd | Huanghua Xingyu Hardware | 136.57 | 136.57
Metaltec Group Co., Limited | Shijiazhuang Shuangming Trade Co., Ltd | 136.57 | 136.57
Metaltec Group Co., Limited | Hebei Wangang Hardware Co., Ltd | 136.57 | 136.57
Metaltec Group Co., Limited | Huanghua Taiyue Hardware Co., Ltd | 136.57 | 136.57
Metaltec Group Co., Limited | Hebei Wuxin Garden Products Co., Ltd | 136.57 | 136.57
Metaltec Group Co., Limited | Huanghua Qingxin Metal Products Co., Ltd | 136.57 | 136.57
Metaltec Group Co., Limited | Huanghua Xingyu Hardware Products Co., Ltd | 136.57 | 136.57
Hebei Yelang Imp. & Exp. Trade Co., Ltd | Huanghua Pengxiang Hardware Products Co., Ltd | 136.57 | 136.57
Joint Force Int'l Co., Limited | Hebei Minmetals Co., Ltd | 136.57 | 136.57
Joint Force Int'l Co., Limited | Huanghua Wangang Hardware Co., Ltd | 136.57 | 136.57
Joint Force Int'l Co., Limited | Huanghua Taiyue Hardware Co., Ltd | 136.57 | 136.57
Joint Force Int'l Co., Limited | Hebei Wuxin Garden Products Co., Ltd | 136.57 | 136.57
Joint Force Int'l Co., Limited | Huanghua Qingxin Metal Products Co., Ltd | 136.57 | 136.57
Joint Force Int'l Co., Limited | Huanghua Xingyu Hardware Products Co., Ltd | 136.57 | 136.57
Joint Force Int'l Co., Limited | Huanghua Deyue Hardware Co., Ltd | 136.57 | 136.57
Joint Force Int'l Co., Limited | Huanghua Huanyu Hardware Factory | 136.57 | 136.57
Hebei Jinshi Industrial Metal Co., Ltd | Tangshan ZhongRui IndustriaI Co., Ltd | 136.57 | 136.57
Hebei Jinshi Industrial Metal Co., Ltd | Huanghua Tianhang Hardware Products Co., Ltd | 136.57 | 136.57
Hebei Jinshi Industrial Metal Co., Ltd | Hebei Tinlin Metal Products Co., Ltd | 136.57 | 136.57
Hebei Jinshi Industrial Metal Co., Ltd | Huanghua Xindarui Hardware Products Co., Ltd | 136.57 | 136.57
Hebei Haiao Wire Mesh Products Co., Ltd | Raoyang Shengshi Metal Products Co., Ltd | 136.57 | 136.57
Anping Chengxin Metal Mesh Co., Ltd | Anping Chengxin Metal Mesh Co., Ltd | 136.57 | 126.03
Hebei Houtuo Co., Ltd | Huanghua Aiyuan Hardware Products Co., Ltd | 136.57 | 136.57
Hebei Neweast Yilong Trading Co., Ltd | Huanghua City Deyue Hardware Co., Ltd | 136.57 | 136.57
Hebei Giant Metal Technology Co., Ltd | Hebei Giant Metal Technology Co., Ltd | 136.57 | 136.57
China-Wide Entity |  | * 187.69 | 187.69
* This rate is based on AFA.

Suspension of Liquidation

In accordance with section 733(d)(2) of the Act, Commerce will direct U.S. Customs and Border Protection (CBP) to suspend liquidation of subject merchandise as described in the scope of the investigation section entered, or withdrawn from warehouse, for consumption on or after the date of publication of this notice in the Federal Register, as discussed below. Further, pursuant to section 733(d)(1)(B) of the Act and 19 CFR 351.205(d), Commerce will instruct CBP to require a cash deposit equal to the weighted average amount by which normal value exceeds U.S. price, as indicated in the chart above, as follows: (1) for the producer/exporter combinations listed in the table above, the cash deposit rate is equal to the estimated weighted-average dumping margin listed for that combination in the table; (2) for all combinations of Chinese producers/exporters of merchandise under consideration that have not established eligibility for their own separate rates, the cash deposit rate will be equal to the estimated weighted-average dumping margin established for the China-wide entity; and (3) for all third-country exporters of merchandise under consideration not listed in the table above, the cash deposit rate is the cash deposit rate applicable to the Chinese producer/exporter combination (or the China-wide entity) that supplied that third-country exporter.

Section 733(e)(2) of the Act provides that, given an affirmative determination of critical circumstances, any suspension of liquidation shall apply to unliquidated entries of merchandise entered, or withdrawn from warehouse, for consumption on or after the later of: (a) the date that is 90 days before the date on which the suspension of liquidation was first ordered; or (b) the date on which notice of initiation of the investigation was published. Commerce preliminarily finds that critical circumstances exist for imports of subject merchandise from the China-wide entity, and Yongao/Yuelei.¹² In accordance with section 733(e)(2)(A) of the Act, the suspension of liquidation shall apply to all unliquidated entries of merchandise from the China-wide entity, and Yongao/Yuelei that were entered, or withdrawn from warehouse, for consumption on or after the date that is 90 days before the publication of this notice in the Federal Register.

¹² See Memorandum, “Less-Than-Fair-Value Investigation of Temporary Steel Fencing from the People's Republic of China: Preliminary Analysis of Critical Circumstances,” dated concurrently with this preliminary determination (Critical Circumstances Memorandum).

To determine the cash deposit rate, Commerce normally adjusts the estimated weighted-average dumping margin by the amount of domestic subsidy pass-through and export subsidies determined in a companion countervailing duty (CVD) proceeding when CVD provisional measures are in effect. Accordingly, where Commerce has made a preliminary affirmative determination for domestic subsidy pass-through or export subsidies, Commerce has offset the calculated estimated weighted-average dumping margin by the appropriate rate.¹³ Any such adjusted rates may be found in the “Preliminary Determination” section's chart of estimated weighted-average dumping margins above.

¹³ See Memorandum, “Preliminary Calculation of Export Subsidy Offsets,” dated concurrently with this preliminary determination.

Should provisional measures in the companion CVD investigation expire prior to the expiration of provisional measures in this LTFV investigation, Commerce will direct CBP to begin collecting cash deposits at a rate equal to the estimated weighted-average dumping margins calculated in this preliminary determination unadjusted for the passed-through domestic subsidies or for export subsidies at the time the CVD provisional measures expire. These suspension of liquidation instructions will remain in effect until further notice.

Disclosure

Commerce intends to disclose to interested parties the calculations performed in connection with this preliminary determination within five days of its public announcement or, if there is no public announcement, within five days of the date of publication of this notice in accordance with 19 CFR 351.224(b).

Consistent with 19 CFR 351.224(e), Commerce will analyze and, if appropriate, correct any timely allegations of significant ministerial errors by amending the preliminary determination. However, consistent with 19 CFR 351.224(d), Commerce will not consider incomplete allegations that do not address the significance standard under 19 CFR 351.224(g) following the preliminary determination. Instead, Commerce will address such allegations in the final determination together with issues raised in the case briefs or other written comments.

Verification

As provided in section 782(i)(1) of the Act, Commerce intends to verify information relied upon in making its final determination.

Public Comment

Case briefs or other written comments, regarding non-scope issues, may be submitted to the Assistant Secretary for Enforcement and Compliance no later than seven days after the date on which the last final verification report is issued in this investigation, unless the Secretary alters the time limit.¹⁴ A timeline for the submission of case briefs and written comments will be notified to interested parties at a later date. Rebuttal briefs, limited to issues raised in the case briefs, may be filed not later than five days after the date for filing case briefs.¹⁵ Interested parties who submit case briefs or rebuttal briefs in this proceeding must submit: (1) a table of contents listing each issue; and (2) a table of authorities.¹⁶

¹⁴ See 19 CFR 351.309(c)(1)(i); see also 19 CFR 351.303 (for general filing requirements).

¹⁵ See 19 CFR 351.309(d); see also Administrative Protective Order, Service, and Other Procedures in Antidumping and Countervailing Duty Proceedings, 88 FR 67069, 67077 (September 29, 2023) (APO and Service Final Rule).

¹⁶ See 19 CFR 351.309(c)(2) and (d)(2).

As provided under 19 CFR 351.309(c)(2) and (d)(2), in prior proceedings we have encouraged interested parties to provide an executive summary of their brief that should be limited to five pages total, including footnotes. In this investigation, we instead request that interested parties provide at the beginning of their briefs a public, executive summary for each issue raised in their briefs.¹⁷ Further, we request that interested parties limit their executive summary of each issue to no more than 450 words, not including citations. We intend to use the executive summaries as the basis of the comment summaries included in the issues and decision memorandum that will accompany the final determination in this investigation. We request that interested parties include footnotes for relevant citations in the executive summary of each issue. Note that Commerce has amended certain of its requirements pertaining to the service of documents in 19 CFR 351.303(f).¹⁸

¹⁷ We use the term “issue” here to describe an argument that Commerce would normally address in a comment of the Issues and Decision Memorandum.

¹⁸ See APO and Service Final Rule.

Pursuant to 19 CFR 351.310(c), interested parties who wish to request a hearing, limited to issues raised in the case and rebuttal briefs, must submit a written request to the Assistant Secretary for Enforcement and Compliance, U.S. Department of Commerce, within 30 days after the date of publication of this notice. Requests should contain the party's name, address, and telephone number, the number of participants, whether any participant is a foreign national, and a list of the issues to be discussed. If a request for a hearing is made, Commerce intends to hold the hearing at a time and date to be determined.

Postponement of Final Determination and Extension of Provisional Measures

Section 735(a)(2) of the Act provides that a final determination may be postponed until not later than 135 days after the date of the publication of the preliminary determination if, in the event of an affirmative preliminary determination, a request for such postponement is made by exporters who account for a significant proportion of exports of the subject merchandise, or in the event of a negative preliminary determination, a request for such postponement is made by the petitioners. Pursuant to 19 CFR 351.210(e)(2), Commerce requires that requests by respondents for postponement of a final antidumping determination be accompanied by a request for extension of provisional measures from a four-month period to a period not more than six months in duration.

On July 23, 2025 and July 25, 2025, pursuant to 19 CFR 351.210(e), Yongao/Yuelei and SD requested that Commerce postpone the final determination and that provisional measures be extended from a four month period to a period not to exceed six months.¹⁹ In accordance with section 735(a)(2)(A) of the Act and 19 CFR 351.210(b)(2)(ii), because: (1) the preliminary determination is affirmative; (2) the requesting exporters account for a significant proportion of exports of the subject merchandise; and (3) no compelling reasons for denial exist, Commerce is postponing the final determination and extending the provisional measures from a four-month period to a period not greater than six months. Accordingly, Commerce will make its final determination no later than 135 days after the date of publication of this preliminary determination.

¹⁹ See Yongao/Yuelei's Letter, “Request to Postpone Final Determination,” dated July 23, 2025; see also SD's Letter, “Request to Postpone the Final Determination,” dated July 25, 2025.

U.S. International Trade Commission Notification

In accordance with section 733(f) of the Act, Commerce will notify the U.S. International Trade Commission (ITC) of its preliminary determination of sales at LTFV. If the final determination is affirmative, the ITC will determine before the later of 120 days after the date of this preliminary determination or 45 days after the final determination whether imports of the subject merchandise are materially injuring, or threaten material injury to, the U.S. industry.

Notification to Interested Parties

This determination is issued and published in accordance with sections 733(f) and 777(i)(1) of the Act and 19 CFR 351.205(c).

Dated: August 13, 2025.
Abdelali Elouaradia,
Deputy Assistant Secretary for Enforcement and Compliance.

Appendix I

Scope of the Investigation

The merchandise subject to this investigation is temporary steel fencing. Temporary steel fencing consists of temporary steel fence panels and temporary steel fence stands. Temporary steel fence panels, when assembled with temporary steel fence stands or other types of stands outside of the scope, with each other, or with posts, create a free-standing fence. Temporary steel fence panels are covered by the scope regardless of whether they attach to a stand or the type of stand to which they connect.

Temporary steel fence panels have a welded frame of steel tubing and an interior consisting of chain link, steel wire mesh, or other steel materials that are not more than ten millimeters in actual diameter or width. The steel tubing may surround all edges of the temporary steel fence panel or only be attached along two parallel sides of the panel. All temporary steel fence panels with at least two framed sides are covered by the scope, regardless of the number of edges framed with steel tubing.

Temporary steel fence panels are typically between 10 and 12 feet long and six to eight feet high, though all temporary steel fence panels are covered by the scope regardless of dimension or weight as long as a single panel meets each of the three following criteria: (1) it has over seven and a half square feet in actual surface area; (2) it weighs more than four pounds; and (3) it weighs less than 1.92 pounds per square foot. Temporary steel fence panels may be square, rectangular, or have rounded edges, and may or may not have gates, doors, wheels, or barbed wire or other features, though all temporary steel fence panels are covered by the scope regardless of shape and other features. Temporary steel fence panels may have one or more horizontal, vertical, or diagonal reinforcement tubes made of steel welded to the inside frame, though all temporary steel fence panels are covered by the scope regardless of the existence, number, or type of reinforcement tubes attached to the panel. Temporary steel fence panels may have extensions, pins, tubes, or holes at the bottom of the panel, but all temporary steel fence panels are covered regardless of the existence of such features.

Steel fence stands are shapes made of steel that stand flat on the ground and have one or two open tubes or solid pins into which temporary steel fence panels are inserted to stand erect. The steel fence stand may be made of welded steel tubing or may be a flat steel plate with one or two tubes or pins welded onto the plate for connecting the panels.

Temporary steel fencing is covered by the scope regardless of coating, painting, or other finish. Both temporary steel fence panels and temporary steel fence stands are covered by the scope, whether imported assembled or unassembled, and whether imported together or separately.

Subject merchandise includes material matching the above description that has been finished, assembled, or packaged in a third country, including by coating, painting, assembling, attaching to, or packaging with another product, or any other finishing, assembly, or packaging operation that would not otherwise remove the merchandise from the scope of the investigation if performed in the country of manufacture of the temporary steel fencing.

Temporary steel fencing is included in the scope of this investigation whether or not imported attached to, or in conjunction with, other parts and accessories such as posts, hooks, rings, brackets, couplers, clips, connectors, handles, brackets, or latches. If temporary steel fencing is imported attached to, or in conjunction with, such non-subject merchandise, only the temporary steel fencing is included in the scope.

Excluded from the scope of this investigation are decorative steel fence panels. Decorative steel fence panels are steel fence panels that have all of the following characteristics: (i) the panel's long ends are no more than 48 inches; (ii) the panel's short ends are no more than 38 inches; (iii) the panel weighs 7 pounds or less; (iv) the panel is framed on all sides with steel tubing no wider than 10 mm; and (v) the panel's the interior contains a decorative pattern (meaning a pattern other than square, rectangular, diamond, or hexagonal meshing) accounting for at least 5 percent of the area within the frame.

Merchandise covered by this investigation is currently classified in the Harmonized Tariff Schedule of the United States (HTSUS) under the subheading 7308.90.9590. Subject merchandise may also enter under subheadings 7326.90.8688 and 7323.99.9080 of the HTSUS. The HTSUS subheadings set forth above are provided for convenience and U.S. Customs purposes only. The written description of the scope is dispositive.

Appendix II

List of Topics Discussed in the Preliminary Decision Memorandum

I. Summary

II. Background

III. Period of Investigation

IV. Affiliation and Single Entity Treatment

V. Application of Facts Available and Use of Adverse Inference

VI. Discussion of the Methodology

VII. Preliminary Determination of Critical Circumstances

VIII. Currency Conversion

IX. Adjustment Under Section 777(A)(f) of the Act

X. Recommendation

[FR Doc. 2025-15781 Filed 8-18-25; 8:45 am]

BILLING CODE 3510-DS-P